ENVIRONMENTAL PROTECTION AGENCY

[OPP-34238; FRL-6775-8]

Organophosphate Pesticides; Availability of Risk Management Decision Documents

AGENCY: Environmental Protection Agency (EPA).

ACTION: Notice.

SUMMARY: This notice announces the availability of the risk management decision documents for four organophosphate pesticides, ethyl parathion, phorate, phosalone, and temephos . These decision documents have been developed as part of the public participation process that EPA and U.S. Department of Agriculture (USDA) are now using for involving the public in the reassessment of pesticide tolerances under the Food Quality Protection Act (FQPA), and the reregistration of individual organophosphate pesticides under the Federal Insecticide, Fungicide, and Rodenticide Act (FIFRA).

FOR FURTHER INFORMATION CONTACT: For general information contact: Carol Stangel, Special Review and Reregistration Division (7508W), Office of Pesticide Programs, Environmental Protection Agency, 1200 Pennsylvania Ave., NW., Washington, DC 20460; telephone number: (703) 308-8007; e-mail address: stangel.carol@epa.gov.

For technical information contact: For questions on the REDs, IREDs or TREDs in this document, contact the appropriate Chemical Review Manager listed in the table in Unit I. of the SUPPLEMENTARY INFORMATION.

SUPPLEMENTARY INFORMATION:

I. General Information

A. Does this Action Apply to Me?

This action is directed to the public in general, nevertheless, a wide range of stakeholders will be interested in obtaining the risk management decision documents for ethyl parathion, phorate, phosalone, and temephos , including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations”, “Regulations and Proposed Rules,” and then look up the entry for this document under the “Federal Register— Environmental Documents.” You can also go directly to the Federal Register listings at http://www.epa.gov/fedrgstr/. In addition, copies of the pesticide risk management decision documents released to the public may also be accessed at http://www.epa.gov/pesticides/reregistration/status.htm .

2. In person. The Agency has established an official record for this action under OPP docket control numbers OPP-34171C for ethyl parathion, OPP-34137C for phorate, OPP-34216B for phosalone, and OPP-34147C for temephos. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

For questions on the REDs, IREDs or TREDs in this document, contact the appropriate Chemical Review Manager listed in this table:

Chemical name | Case No. | Chemical Review Manager | Telephone no. | E-mail address
Ethyl Parathion | 0155 | Laura Parsons | (703) 305-5776 | parsons.laura@epa.gov
Phorate | 0103 | Ben Chambliss | (703) 308-8174 | chambliss.ben@epa.gov
Phosalone | 0027 | John Pates | (703) 308-8195 | pates.john@epa.gov
Temephos | 0006 | Dirk Helder | (703) 305-4610 | helder.dirk@epa.gov

II. What Action is the Agency Taking?

EPA has assessed the risks of Ethyl Parathion, Phorate, Phosalone, and Temephos and reached a Reregistration Eligibility Decision (RED), an Interim Reregistration Eligibility Decision (IRED), or a Report on FQPA Tolerance Reassessment Progress and Interim Risk Management Decision (TRED) for each of these organophosphate pesticides.

1. Ethyl Parathion RED. All remaining uses of Ethyl Parathion are being voluntarily canceled and phased out during the next few years. Because no uses will remain, Ethyl Parathion will not be included in the cumulative assessment of the organophosphate pesticides.

2. Phorate IRED. With the adoption of additional risk mitigation measures, Phorate fits into its own risk cup; its individual, aggregate risks are within acceptable levels.

3. Phosalone TRED. With no U.S. registrations and import tolerances only, Phosalone fits into its own risk cup without additional risk mitigation.

4. Temephos RED. With risk mitigation measures adopted, Temephos is eligible for reregistration. Because it has no food uses or other uses that result in exposure to children, Temephos will not be included in the cumulative assessment of the organophosphate pesticides.

The risk management decision documents for ethyl parathion, phorate, phosalone, and temephos were made through the organophosphate pesticide pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation.

EPA worked extensively with affected parties to reach the decisions presented in the risk management decision documents, which conclude the pilot public participation process for ethyl parathion, phorate, phosalone, and temephos . As part of the pilot public participation process, numerous opportunities for public comment were offered as these risk management decision documents were being developed. The ethyl parathion, phorate, phosalone, and temephos risk management decision documents therefore are issued in final, without a formal public comment period. The docket remains open, however, and any comments submitted in the future will be placed in the public docket.

The risk assessments for ethyl parathion, phorate, phosalone, and temephos were released to the public through the following notices published in the Federal Register:

1. Notices for ethyl parathion were published on January 15, 1999 (64 FR 2644) (FRL-6056-9) and March 1, 2000 (65 FR 11050) (FRL-6494-8).

2. Notices for phorate were published on August 12, 1998 (63 FR 43175) (FRL-6024-3) and September 1, 1999 (64 FR 47784) (FRL-6099-9).

3. Notices for phosalone were published on January 12, 2000 (65 FR 1867) (FRL-6486-9) and July 26, 2000 (65 FR 45982) (FRL-6737-3).

4. Notices for temephos were published on September 9, 1998 (63 FR 48213) (FRL-6030-2), December 18, 1998 (63 FR 70126) (FRL-6052-6), and October 6, 1999 (64 FR 54298) (FRL-6387-6).

EPA's next step under FQPA is to complete a cumulative risk assessment and risk management decision for the organophosphate pesticides, which share a common mechanism of toxicity. The interim risk management decision documents on phorate and phosalone cannot be considered final until this cumulative assessment is complete. The ethyl parathion and temephos REDs represent the Agency's final decisions for these pesticides under the organophosphate pesticide review process.

When the cumulative risk assessment for the organophosphate pesticides has been completed, EPA will issue its final tolerance reassessment decision for phorate and phosalone, and further risk mitigation measures may be needed.

List of Subjects

Environmental protection, Chemicals, Pesticides and pests.

Dated: September 26, 2001.
Lois A. Rossi,
Director, Special Review and Reregistration Division, Office of Pesticide Programs.

[FR Doc. 01-25264 Filed 10-9-01; 8:45 am]

BILLING CODE 6560-50-S